DEPARTMENT OF COMMERCE

Foreign-Trade Zones Board

[B-61-2024]

Foreign-Trade Zone (FTZ) 29, Notification of Proposed Production Activity; GoPro, Inc; (Camera Bundles); Louisville, Kentucky

Arvato USA, LLC, on behalf of GoPro, Inc (GoPro), submitted a notification of proposed production activity to the FTZ Board (the Board) for the GoPro facility in Louisville, Kentucky, within FTZ 29. The notification conforming to the requirements of the Board's regulations (15 CFR 400.22) was received on December 19, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include digital camera activity bundles consisting of various combinations of digital cameras, camera mounts and mounting poles, camera cases, lenses, rechargeable lithium-ion batteries and battery chargers, camera accessories, USB hubs, and branded promotional and souvenir merchandise (duty rate is duty-free).

The proposed foreign-status materials/components include: silicon dioxide anti-fog inserts; plastic components (protective lens film; camera housing doors; adhesive mounts; folding fingers; handheld camera mounts; camera multi-purpose mounts; suction cup camera mounts; head strap camera mounts; tripods); glass lens protectors; flexible plastic components (camera mounts; camera mount with clamps); silicone camera sleeves with lanyards; rubber components (seals for water housing doors; camera floatation sleeves; quick release plugs); dog harness camera mounts; nylon components (lightweight camera cases with soft tricot lining; compression molded camera cases with soft tricot lining; backpacks with water resistant coating; crossbody bags with water resistant coating; camera body harness mounts; camera wrist harness mounts; vented helmet strap mounts); molded plastic camera housings; waterproof camera covers with lanyards; instruction guides; warranty cards; stickers; knitted shirts of cotton and polyester blend; T-shirts of cotton and polyester blend; sweatshirts of combed and ring spun cotton blend; 100% polyester anorak-style jackets; brushed cotton twill hats; polyester mesh, moisture wicking hats; steel components (knob thumbscrews; non-threaded screws; nuts; washers; bolts); iron and steel alloy components (screws; bolts; nuts; rivets; cotter pins; washers); stainless steel nuts; aluminum components (insulated drinking bottles; handheld camera mounts; tripods); wrench and bottle opener hybrid tools; screwdrivers; micro SD to USB adapters; multi-port USB hubs; lithium battery chargers (with and without rechargeable batteries); rechargeable lithium-ion batteries; battery charging handheld camera grips; external microphones; micro SD cards; digital still image cameras; flip up camera screen monitors; waterproof protective camera housings; micro HDMI to HDMI cables; microphone stand mounts; 3.5 mm mic adaptors; protective lenses for cameras; lens filters; graphite tripods; magnetic latch mounts; magnetic door and power cable kits; magnetic latch ball joints; camera mounts with flexible plastic ties; Bluetooth camera remote controls; portable lamps for cameras; and, magnetic swivel mounts (duty rate ranges from duty-free to 32.0%). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is February 11, 2025.

A copy of the notification will be available for public inspection in the “Online FTZ Information System” section of the Board's website.

For further information, contact Juanita Chen at juanita.chen@trade.gov.

Dated: December 24, 2024.
Juanita Chen,
Acting Executive Secretary.

[FR Doc. 2024-31442 Filed 12-31-24; 8:45 am]

BILLING CODE 3510-DS-P